DEPARTMENT OF COMMERCE

National Oceanic and Atmospheric Administration

[Docket No. 0907081109-0180-06]

RIN 0648-ZC10

Availability of Grant Funds for FY 2010

AGENCY: National Oceanic and Atmospheric Administration (NOAA), Department of Commerce (DOC).

ACTION: Notice of availability of grant funds for FY 2010.

SUMMARY: NOAA publishes this notice to solicit proposals for grant funding for three NOAA Sea Grant Programs: (1) Sea Grant Aquaculture Research Program 2010; (2) NOAA Sea Grant Aquaculture Extension and Technology Transfer 2010; and (3) NOAA Sea Grant Aquatic Invasive Species 2010. This notice supplements the agency's solicitation for applications published on January 19, 2010 entitled “Availability of Grant Funds for Fiscal Year 2010” (75 FR 3209).

DATES: Proposals must be received by the date and time specified under each program listed in the SUPPLEMENTARY INFORMATION section of this document.

ADDRESSES: Proposals must be submitted to the program address listed in the SUPPLEMENTARY INFORMATION section of this document. NOAA's discretionary grant fund notices may be found on the Internet at Grants.gov. The URL for Grants.gov is http://www.grants.gov.

FOR FURTHER INFORMATION CONTACT: For those applicants without Internet access, you may request a copy of the full funding opportunity announcement and/or application kit from the person listed as the information contact under each program.

SUPPLEMENTARY INFORMATION: Applicants must comply with all requirements contained in the Federal Funding Opportunity announcement for each of the programs listed in this notice. The Federal Funding Opportunity announcements are available at http://www.grants.gov.

The list of grant opportunities under NOAA Project Competitions (below) describes the basic information and requirements for the competitive grant/cooperative agreement programs offered by NOAA. These programs are open to anyone who meets the eligibility criteria specified under each entry. To be considered for an award under one of the described competitive grant/cooperative agreement programs, eligible applicants must submit a complete and responsive application to the appropriate address by the deadline specified in this notice. An award is made upon conclusion of the evaluation and selection process for the respective program.

Table of Contents

I. Background

II. NOAA Project Competitions—Oceanic and Atmospheric Research (OAR)

1. NOAA Sea Grant Aquaculture Research Program 2010

2. NOAA Sea Grant Aquaculture Extension and Technology Transfer 2010

3. NOAA Sea Grant Aquatic Invasive Species 2010

III. Relevant NOAA Mission Goal

IV. Classification

I. Background

In this notice, NOAA announces that three programs are making funds available for financial assistance awards. Each entry for the following grant opportunities provides: A description of the program, funding availability, statutory authority, Catalog of Federal Domestic Assistance (CFDA) number, application deadline, address for submitting proposals, selection criteria, evaluation criteria, information contacts, eligibility requirements, cost sharing requirements, and intergovernmental review under Executive Order 12372. Interested applicants should consult the January 19, 2010 Federal Register Notice entitled “Availability of Grant Funds for Fiscal Year 2010” (75 FR 3209) for additional information about submitting an application to NOAA.

II. NOAA Project Competitions

Oceanic and Atmospheric Research (OAR)

1. NOAA Sea Grant Aquaculture Research Program 2010

Summary Description: NOAA Sea Grant will make available up to $6,000,000 for a national competition to fund aquaculture research projects for FY 2010 to FY 2011, as part of the overall plan to support the development of environmentally and economically sustainable ocean, coastal or Great Lakes aquaculture. The Federal Funding Opportunity (FFO) announcement for this competition is available on http://grants.gov under FFO number NOAA-OAR-SG-2010-2002488.

Funding Availability: Depending on FY 2011 Congressional appropriations and the quality of proposals, Sea Grant expects to have available up to $6,000,000 for aquaculture research projects for FY 2010 to FY 2011, with individual research projects funded at a total of $50,000 to $400,000 in federal funding (or $75,000 to $600,000 total funding, including required non-Federal matching funds) for up to a two-year period. Additional match may be applied, if appropriate. Given the anticipated amount of funding and the anticipated number and quality of proposals submitted, approximately 15 projects of average Federal funding of $400,000 are anticipated.

Statutory Authority: 33 U.S.C. 1121 et seq.

Catalog of Federal Domestic Assistance (CFDA) Number: 11.417, Sea Grant Support

Application Deadline: Proposals must be submitted by 5 p.m. Eastern Time, May 25, 2010, regardless of where they are submitted. State Sea Grant Programs must forward applications unchanged to Grants.gov by 5:00 p.m. Eastern Time, June 8, 2010. Applications that are not received by the deadline will not be reviewed.

Address for Submitting Proposals: Applicants from Sea Grant states must submit applications to the addresses provided by the appropriate State Sea Grant Program. Contact information for Sea Grant Programs is available at http://www.seagrant.noaa.gov/nsi/2010/eligible_2010.htm or may also be obtained by contacting the Information Contact listed below.

Applicants NOT From Sea Grant States may submit their applications to a nearby State Sea Grant Program office, or directly to Grants.gov (by the same date that applicants in Sea Grant states must send to their Sea Grant Program).

If submitted electronically via Grants.gov, please indicate FFO number NOAA-OAR-SG-2010-2002488 in the application.

If a Sea Grant Program or an applicant not from a Sea Grant State does not have proven internet access, contact the Information Contact listed below for submission instructions.

Evaluation Criteria:

1. Importance and/or relevance and applicability of proposed project to the National Sea Grant program goals (maximum 25 points).

This ascertains whether there is intrinsic value in the proposed work and/or relevance to NOAA, Federal, regional, State, or local activities. For this competition, this ascertains:

(a) If the impact of the proposed work will increase domestic marine aquaculture production, contribute to environmental sustainability, and advance the state of the industry, science, or state-of the-art methods for marine aquaculture;

(b) The degree to which the proposal contributes to the following three top priorities for FY 2010 and FY 2011:

(1) Research on technical aspects of innovative mitigation or `smart design' approaches to aquaculture, such as integrated multi-trophic aquaculture or other ways to design aquaculture production in an ecosystem management context; (2) Development of planning tools or approaches to aid site selection for new or expanded aquaculture facilities in the context of coastal and marine spatial planning efforts, including planning and zoning tools for coastal managers; and (3) Research on the social and economic issues associated with current and new marine aquaculture; and

(c) If the proposal includes a concrete, unambiguous specific desired outcome, and has a good chance of achieving that outcome (including meeting stated performance measure targets).

2. Technical/scientific merit (maximum 35 points).

This assesses whether the approach is technically sound and/or innovative, if the methods are appropriate, and whether there are clear project goals and objectives. For this competition, this ascertains:

(a) The quality of the work plan, and if it includes (if appropriate) plans for identifying and conducting future research or other future actions;

(b) If the proposal includes all components (research, outreach, extension, etc) necessary to achieve the desired outcome and an effective plan to integrate all components;

(c) If the proposal includes one or more of the performance measures identified in section I.A of the FFO, with targets. If it does not include these, does it include well-formed, outcome-based performance measures, with targets, and credibly demonstrate how achieving these performance measure targets will lead to increased targets for one or more of the performance measures in section I.A of the FFO; and

(d) If the proposal includes a way to objectively determine its success at achieving its outcomes.

3. Overall qualifications of applicants (maximum 10 points).

This ascertains whether the applicant possesses the necessary education, experience, training, facilities, and administrative resources to accomplish the project. This includes their record of achievement with previous funding.

4. Project costs (maximum 15 points).

The budget is evaluated to determine if it is realistic and commensurate with the project needs and time-frame.

5. Outreach and education (maximum 15 points).

This criterion assesses whether this project provides a focused and effective education and outreach strategy regarding NOAA's mission to protect the Nation's natural resources. For this competition, this ascertains if the proposal includes a clear and objective work plan for outreach strategy and specific activities to maximize dissemination of results to stakeholders.

Selection Procedures and Factors: Upon receipt of a full application by NOAA, an initial administrative review will be conducted to determine compliance with requirements and completeness of the application. A merit review will also be conducted to produce a rank order of the proposals. The NOAA Program Officer may review the ranking of the proposals and make recommendations to the Selecting Official based on the administrative and/or merit review(s) and selection factors listed below. The Selecting Official selects proposals after considering the administrative and/or merit review(s) and recommendations of the Program Officer. In making the final selections, the Selecting Official will award in rank order unless the proposal is justified to be selected out of rank order based upon one or more of the selection factors below. The Program Officer and/or Selecting Official may negotiate the funding level of the proposal. The Selecting Official makes final award recommendations to the Grants Officer authorized to obligate the funds.

The selection factors that the Selecting Official may use are:

1. Availability of funding.

2. Balance and distribution of funds.

a. Geographically.

b. By type of institutions.

c. By type of partners.

d. By research areas.

e. By project types.

3. Duplication of other projects funded or considered for funding by NOAA or other Federal agencies.

4. Program priorities and policy factors.

5. Applicant's prior award performance.

6. Partnerships and/or Participation of targeted groups.

7. Adequacy of information necessary for NOAA staff to make a National Environmental Protection Act (NEPA) determination and draft necessary documentation before recommendations for funding are made to the Grants Officer.

Information Contacts: Agency contact for information regarding the NOAA Sea Grant Aquaculture Research Program 2010 should be directed to Dr. Gene Kim, 301-734-1281; via e-mail at oar.hq.sg.aquaculture@noaa.gov; Mailing Address: NOAA Sea Grant; 1315 East-West Highway, SSMC3, R/SG; Silver Spring, MD 20910.

Eligibility: Institutions of higher education, nonprofit organizations, commercial organizations, State, local and Indian tribal governments and individuals are eligible. Federal agencies and their personnel are not permitted to receive Federal funding under this competition; however, Federal scientists can serve as partners or co-Principal Investigators on research proposals. Directors of the state Sea Grant Programs are not eligible to compete for funds under this announcement, although for administrative purposes, they will be considered to be the Principal Investigator for all awards made to their state programs.

Cost Sharing Requirements: Non-Federal matching funds equal to at least 50 percent of the Federal funding request must be provided. In-kind contributions can count towards this matching requirement.

Intergovernmental Review: Applications under this Program are not subject to Executive Order 12372, “Intergovernmental Review of Federal Programs.''

2. NOAA Sea Grant Aquaculture Extension and Technology Transfer 2010

Summary Description: NOAA Sea Grant will make available up to $4,800,000 for a national competition to fund aquaculture extension efforts for FY 2010 to FY 2012, as part of the overall plan to enhance aquaculture extension (including technology transfer) to support the development of environmentally and economically sustainable ocean, coastal or Great Lakes aquaculture. Aquaculture extension is expected to be conducted in cooperation and partnership with state and Federal aquaculture agencies and regional management efforts. The Federal Funding Opportunity (FFO) announcement for this competition is available on http://grants.gov under FFO number NOAA-OAR-SG-2010-2002491.

Funding Availability: Depending on FY 2011 and FY 2012 Congressional appropriations and the quality of proposals, Sea Grant expects to have available up to $4,800,000 for aquaculture extension efforts for FY 2010 to FY 2012. Each Sea Grant Program can submit up to two separate proposals. Each individual proposal can be requested at a total of $50,000 to $300,000 in Federal funding (or $75,000 to $450,000 total funding, including required non-Federal matching funds) for up to a three-year period; however, the maximum annual amount for each proposal is $100,000 in Federal funding per year. Given the anticipated amount of funding and the anticipated number and quality of proposals submitted, approximately 16 projects of average Federal funding $300,000 are anticipated.

Statutory Authority: 33 U.S.C. 1121 et seq.

Catalog of Federal Domestic Assistance (CFDA) Number: 11.417, Sea Grant Support.

Application Deadline: Proposals must be submitted by 5 p.m. Eastern Time, May 25, 2010. Applications that are not received by the deadline will not be reviewed.

Address for Submitting Proposals: Proposals must be submitted through Grants.gov by the Sea Grant Program. If an applicant does not have internet access, contact the Information Contact listed below.

Evaluation Criteria:

1. Importance and/or relevance and applicability of proposed project to the National Sea Grant program goals (maximum 25 points).

This ascertains whether there is intrinsic value in the proposed work and/or relevance to NOAA, federal, regional, State, or local activities. For this competition, this ascertains:

(a) The degree of impact of the proposed work to increase domestic ocean, coastal or Great Lakes aquaculture production, contribute to environmental sustainability, and advance the state of the industry, science, or state-of the-art methods for marine aquaculture; and

(b) The degree to which the proposal includes a concrete, unambiguous specific desired outcome, and has a good chance of achieving that outcome (including meeting stated performance measure targets).

2. Technical/scientific merit (maximum 20 points).

This assesses whether the approach is technically sound and/or innovative, if the methods are appropriate, and whether there are clear project goals and objectives. For this competition, this ascertains:

(a) The quality of the work plan, including (if appropriate) plans for identifying and conducting future research, extension, or other actions;

(b) If the proposal includes all components (research, outreach, extension, etc) necessary to achieve the desired outcome. Is there an effective plan for integrating all components?;

(c) If the proposal includes one or more of the performance measures identified in section I.A of the FFO, with targets. If it does not include these, does it include well-formed, outcome-based performance measures, with targets, and credibly demonstrate how achieving these performance measure targets will lead to increased targets for one or more of the performance measures in section I.A of the FFO; and

(d) If the proposal includes a way to objectively determine its success at achieving its outcomes.

3. Overall qualifications of applicants (maximum 10 points).

This ascertains whether the applicant possesses the necessary education, experience, training, facilities, and administrative resources to accomplish the project. This includes their record of achievement with previous funding.

4. Project costs (maximum 20 points).

The budget is evaluated to determine if it is realistic and commensurate with the project needs and time-frame. This includes assessment of the described plans for how the aquaculture extension personnel capacity will be maintained when funding from this competition terminates.

5. Outreach and education (maximum 25 points).

Assesses whether this project provides a focused and effective education and outreach strategy regarding NOAA's mission to protect the Nation's natural resources. For this competition, this ascertains if the proposal includes a clear and objective work plan for outreach strategy and specific activities to maximize dissemination of results to stakeholders.

Selection Procedures and Factors: Upon receipt of a full application by NOAA, an initial administrative review will be conducted to determine compliance with requirements and completeness of the application. A merit review will also be conducted to produce a rank order of the proposals.

The NOAA Program Officer may review the ranking of the proposals and make recommendations to the Selecting Official based on the administrative and/or merit review(s) and selection factors listed below. The Selecting Official selects proposals after considering the administrative and/or merit review(s) and recommendations of the Program Officer. In making the final selections, the Selecting Official will award in rank order unless the proposal is justified to be selected out of rank order based upon one or more of the selection factors below. The Program Officer and/or Selecting Official may negotiate the funding level of the proposal. The Selecting Official makes final award recommendations to the Grants Officer authorized to obligate the funds.

The selection factors that the Selecting Official may use are:

1. Availability of funding.

2. Balance and distribution of funds.

a. Geographically.

b. By type of institutions.

c. By type of partners.

d. By research areas.

e. By project types.

3. Duplication of other projects funded or considered for funding by NOAA or other Federal agencies.

4. Program priorities and policy factors.

5. Applicant's prior award performance.

6. Partnerships and/or Participation of targeted groups.

7. Adequacy of information necessary for NOAA staff to make a National Environmental Protection Act (NEPA) determination and draft necessary documentation before recommendations for funding are made to the Grants Officer.

Information Contacts: Agency contact for information regarding the NOAA Sea Grant Aquaculture Extension and Technology Transfer 2010 should be directed to Dr. Gene Kim, 301-734-1281; via e-mail at oar.hq.sg.aquaculture@noaa.gov; Mailing Address: NOAA Sea Grant; 1315 East-West Highway, SSMC3, R/SG; Silver Spring, MD 20910.

Eligibility: The following entities are eligible to apply to this funding opportunity: Sea Grant College Programs, Sea Grant Institutional Programs, the Guam Sea Grant Project, the Lake Champlain Sea Grant Project, and the Sea Grant National Law Center.

Other interested parties are encouraged to work with the Sea Grant programs in their region to explore opportunities for partnering. Contact information for all eligible state Sea Grant programs can be found at http://www.seagrant.noaa.gov/nsi/2010/eligible_2010.htm or may also be obtained by contacting the Information Contact listed above.

Cost Sharing Requirements: Non-Federal matching funds equal to at least 50 percent of the Federal funding request must be provided. In-kind contributions can count towards this matching requirement.

Intergovernmental Review: Applications under this Program are not subject to Executive Order 12372, “Intergovernmental Review of Federal Programs.”

3. NOAA Sea Grant Aquatic Invasive Species 2010

Summary Description: NOAA Sea Grant will make available $2,000,000 in 2010 and up to $2,000,000 in 2011, if appropriations are available, to Sea Grant programs to support integrated projects of research, outreach, extension, education and/or management, addressing regional aquatic invasive species priorities for U.S. coastal, ocean, and Great Lakes areas. The opportunity seeks especially to support projects that address NOAA-relevant regional aquatic invasive species priorities identified by Sea Grant Regional Research Plans, by NOAA Regional Collaboration Teams, by the Aquatic Nuisance Species (ANS) Task Force Regional Panels, and in ANS State Management Plans. The Federal Funding Opportunity (FFO) announcement for this competition is available on http://grants.gov under FFO number NOAA-OAR-SG-2010-2002380.

Funding Availability: A total of $2,000,000 of Federal Sea Grant funds in FY 2010 and up to $2,000,000 in FY 2011 is anticipated to be offered, depending on appropriations. Up to 11 awards are anticipated to be made, depending the number, quality, and request amounts of applications received. Federal funding requests must be no higher than $400,000 and no lower than $20,000. An exception to the $400,000 upper limit is if a single integrated project addresses an invasive species issue in multiple Sea Grant regions. If this is done, the maximum amount that can be requested is $400,000 times the number of regions involved.

Statutory Authority: Authority for this FFO is provided by 33 U.S.C. 1121 et seq., as amended.

Catalog of Federal Domestic Assistance (CFDA) Number: 11.417, Sea Grant Support.

Application Deadline: Applications must be received by 5 p.m. Eastern time May 17, 2010. Applications that are not received by the deadline will not be reviewed.

Address for Submitting Proposals: Applications should be submitted to Grants.gov. Applicants who do not have access to the Internet should request submission information from the Information Contact listed below.

Evaluation Criteria:

1. Importance and/or relevance and applicability of proposed project to the program goals (40 percent).

This ascertains whether there is intrinsic value in the proposed work and/or relevance to NOAA, Federal, regional, State, or local activities. For this competition, this criterion ascertains:

(a) Does the proposal address a significant recognized regional aquatic invasive species issue?

(b) If the proposed project is successful, will it contribute significantly to the resolution of this issue?

(c) Does the proposal include a concrete, unambiguous specific desired outcome, and does the project have a good chance of achieving that outcome (including meeting stated performance measure targets)?

2. Technical/scientific merit (40 percent).

This assesses whether the approach is technically sound and/or innovative, if the methods are appropriate, and whether there are clear project goals and objectives. For this competition, this criterion assesses:

(a) The quality of the work plan, including (if appropriate) plans for identifying and selecting future research or other future actions;

(b) Does the proposal include all components (research, outreach, extension, etc) necessary to achieve the desired outcome? Is there an effective plan for integrating all components?

(c) Does the proposal include one or more of the performance measures identified in section I.A of the FFO, with targets? If it does not include these, does it include well-formed, outcome-based performance measures, with targets, and credibly demonstrate how achieving these performance measure targets will lead to increased targets for one or more of the performance measures in section I.A of the FFO?

(d) Does the proposal include a way to objectively determine its success at achieving its outcomes?

3. Overall qualifications of applicants (5 percent).

This ascertains whether the applicant possesses the necessary education, experience, training, facilities, and administrative resources to accomplish the project. For this competition this criterion ascertains whether the proposed leader and team possess the necessary education, experience, breadth, facilities, and administrative resources to accomplish the project.

4. Project costs (10 percent).

The Budget is evaluated to determine if it is realistic and commensurate with the project needs and time-frame. For this competition, this criterion also assesses the degree to which costs have been minimized and inter-institutional and partnership activities have been incorporated in order to leverage funds and resources.

5. Outreach and education (5 percent).

NOAA assesses whether this project provides a focused and effective education and outreach strategy regarding NOAA's mission to protect the Nation's natural resources. For this competition, this criterion assesses the quality of proposed outreach and education activities to contribute to achieving the desired objective, as well as to effectively communicate the results of this project after it is completed, to maximize its usefulness in future similar efforts.

Selection Procedures and Factors: Upon receipt of a full application by NOAA, an initial administrative review will be conducted to determine compliance with requirements and completeness of the application. A merit review will also be conducted to produce a rank order of the proposals. The NOAA Program Officer may review the ranking of the proposals and make recommendations to the Selecting Official based on the administrative and/or merit review(s) and selection factors listed below. The Selecting Official selects proposals after considering the administrative and/or merit review(s) and recommendations of the Program Officer. In making the final selections, the Selecting Official will award in rank order unless the proposal is justified to be selected out of rank order based upon one or more of the selection factors below. The Program Officer and/or Selecting Official may negotiate the funding level of the proposal. The Selecting Official makes final award recommendations to the Grants Officer authorized to obligate the funds.

The selection factors that the Selecting Official may use are:

1. Availability of funding.

2. Balance and distribution of funds.

a. Geographically.

b. By type of institutions.

c. By type of partners.

d. By research areas.

e. By project types.

3. Duplication of other projects funded or considered for funding by NOAA or other Federal agencies.

4. Program priorities and policy factors.

5. Applicant's prior award performance.

6. Partnerships and/or Participation of targeted groups.

7. Adequacy of information necessary for NOAA staff to make a National Environmental Protection Act (NEPA) determination and draft necessary documentation before recommendations for funding are made to the Grants Officer.

Information Contact: Dorn Carlson, National Sea Grant College Program, 1315 East-West Highway, R/SG, Rm 11710, Silver Spring, MD 20910; tel: (301) 713-1080; e-mail: invasive.species@noaa.gov.

Eligibility: The following entities are eligible to apply to this funding opportunity: Sea Grant Colleges, Sea Grant Institutional Programs, the Lake Champlain Sea Grant Project, the Guam Sea Grant Project, and the Sea Grant National Law Center.

Other interested parties are encouraged to work with the Sea Grant programs in their region to explore opportunities for partnering. Contact information for all eligible state Sea Grant programs and projects can be found at http://www.seagrant.noaa.gov/nsi/2010/eligible_2010.htm or may also be obtained by contacting Dorn Carlson listed in Agency Contacts.

Cost Sharing Requirements: Matching funds equal to at least 50 percent of the Federal funding request must be provided.

Intergovernmental Review: Applications under this program are not subject to Executive Order 12372, “Intergovernmental Review of Federal Programs.”

III. Relevant NOAA Mission Goal

Protect, Restore and Manage the Use of Coastal and Ocean Resources Through Ecosystem-Based Management

Coastal areas are among the most developed in the Nation. More than half the population lives on less than one-fifth of the land in the contiguous United States. Furthermore, employment in near shore areas is growing three times faster than population. Coastal and marine waters support over 28 million jobs and provide a tourism destination for nearly 90 million Americans a year. The value of the ocean economy to the United States is over $115 billion. The value added annually to the national economy by the commercial and recreational fishing industry alone is over $48 billion. U.S. aquaculture sales total almost $1 billion annually. With its Exclusive Economic Zone of 3.4 million square miles, the United States manages the largest marine territory of any nation in the world.

Funded proposals should help achieve the following outcomes:

1. Healthy and productive coastal and marine ecosystems that benefit society.

2. A well-informed public that acts as a steward of coastal and marine ecosystems.

Program Names for this Mission Goal:

1. NOAA Sea Grant Aquaculture Research Program 2010.

2. NOAA Sea Grant Aquaculture Extension and Technology Transfer 2010.

3. NOAA Sea Grant Aquatic Invasive Species 2010.

IV. Classification

Limitation of Liability

In no event will NOAA or the Department of Commerce be responsible for proposal preparation costs. Publication of this announcement does not oblige NOAA to award any specific project or to obligate any available funds.

Universal Identifier

For programs that have deadline dates on or after October 1, 2003, applicants should be aware that they may be required to provide a Dun and Bradstreet Data Universal Numbering System (DUNS) number during the application process. See the October 30, 2002 Federal Register, (67 FR 661770 for additional information. Organizations can receive a DUNS number at no cost by calling the dedicated toll-free DUNS Number request line at 1-866-705-5711 or via the Internet (http://www.dunandbradstreet.com).

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216_6_TOC.pdf, NEPA Questionnaire, http://www.nepa.noaa.gov/questionnaire.pdf, and the Council on Environmental Quality implementation regulations, http://ceq.eh.doe.gov/nepa/regs/ceq/toc— ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

Compliance With Department of Commerce Bureau of Industry and Security Export Administration Regulations

a. This section applies to the extent that this notice results in financial assistance awards involving access to export-controlled information or technology.

b. In performing a financial assistance award, the recipient may gain access to export-controlled information or technology. The recipient will then be responsible for compliance with all applicable laws and regulations regarding export-controlled information and technology, including deemed exports. The recipient shall establish and maintain throughout performance of the financial assistance award effective export compliance procedures at non-NOAA facilities. At a minimum, these export compliance procedures must include adequate controls of physical, verbal, visual, and electronic access to export- controlled information and technology.

c. Definitions.

1. Deemed export. The Export Administration Regulations (EAR) define a deemed export as any release of technology or source code subject to the EAR to a foreign national, both in the United States and abroad. Such release is “deemed” to be an export to the home country of the foreign national. 15 CFR 734.2(b)(2)(ii).

2. Export-controlled information and technology. Export-controlled information and technology is information and technology subject to the EAR (15 CFR parts 730 et seq.), implemented by the DOC Bureau of Industry and Security, or the International Traffic Arms Regulations (ITAR) (22 CFR parts 120-130), implemented by the Department of State, respectively. This includes, but is not limited to, dual-us items, defense articles and any related assistance, services, software or technical data as defined in the EAR and ITAR.

d. The recipient shall control access to all export-controlled information and technology that it possesses or that comes into its possession in performance of a financial assistance award, to ensure that access is restricted, or licensed, as required by applicable Federal laws, Executive Orders, and/or regulations.

e. Nothing in the terms of this section is intended to change, supersede, or waive any of the requirements of applicable Federal laws, Executive Orders or regulations.

f. The recipient shall include this clause, including this paragraph (f), in all lower tier transactions (subawards, contracts, and subcontracts) under the financial assistance award that may involve access to export-controlled information technology.

NOAA implementation of Homeland Security Presidential Directive—12

If the performance of a financial assistance award, if approved by NOAA, requires recipients to have physical access to Federal premises for more than 180 days or access to a Federal information system, any items or services delivered under a financial assistance award shall comply with the Department of Commerce personal identity verification procedures that implement Homeland Security Presidential Directive—12, FIPS PUB 201, and the Office of Management and Budget Memorandum M-05-24. The recipient shall insert this clause in all subawards or contracts when the subaward recipient or contractor is required to have physical access to a Federally controlled facility or access to a Federal information system.

The Department of Commerce Pre-Award Notification Requirements for Grants and Cooperative Agreements

The Department of Commerce Pre-Award Notification Requirements for Grants and Cooperative Agreements contained in the Federal Register notice of February 11, 2008 (73 FR 7696) are applicable to this solicitation.

Paperwork Reduction Act

This document contains collection-of-information requirements subject to the Paperwork Reduction Act (PRA). The use of Standard Forms 424, 424A, 424B, SF LLL, CD-346, SF 424 Research and Related Family, SF 424 Short Organizational Family, SF 424 Individual Form family has been approved by the Office of Management and Budget (OMB) under the respective control numbers 4040-0004, 0348-0044, 0348-0040, 0348-0046, 0605-0001, 4040-0001, 4040-0003, and 4040-0005.

Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: April 9, 2010.
Terry Bevels,
Acting Chief Financial Officer, Office of Oceanic and Atmospheric Research, National Oceanic and Atmospheric Administration.

[FR Doc. 2010-8545 Filed 4-13-10; 8:45 am]

BILLING CODE 3510-PJ-P